DEPARTMENT OF HEALTH AND HUMAN SERVICES

Agency for Toxic Substances and Disease Registry

[ATSDR-269]

Proposed Substances To Be Evaluated for Set 25 Toxicological Profiles

AGENCY: Agency for Toxic Substances and Disease Registry (ATSDR), Department of Health and Human Services (HHS).

ACTION: Request for comments on the proposed substances to be evaluated for Set 25 toxicological profiles.

SUMMARY: ATSDR is initiating the development of its 25th set of toxicological profiles (CERCLA Set 25). This notice announces the list of proposed substances that will be evaluated for CERCLA Set 25 toxicological profile development. ATSDR's Division of Toxicology and Environmental Medicine is soliciting public nominations from the list of proposed substances to be evaluated for toxicological profile development. ATSDR also will consider the nomination of any additional, non-CERCLA substances that may have public health implications, on the basis of ATSDR's authority to prepare toxicological profiles for substances not found at sites on the National Priorities List. The agency will do so in order to “* * * establish and maintain inventory of literature, research, and studies on the health effects of toxic substances” under CERCLA Section 104(i)(1)(B), to respond to requests for consultation under section 104(i)(4), and to support the site-specific response actions conducted by ATSDR, as otherwise necessary.

DATES: Nominations must be submitted within 30 days of the publication of this notice.

ADDRESSES: Nominations may be submitted electronically. Refer to the section Submission of Nominations (below) for the specific address.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) with regard to hazardous substances most commonly found at facilities on the CERCLA National Priorities List (NPL). Among these statutory requirements is a mandate for the Administrator of ATSDR to prepare toxicological profiles for each substance included on the Priority List of Hazardous Substances. This list identifies 275 hazardous substances that ATSDR and EPA have determined pose the most significant current potential threat to human health. The availability of the revised list of the 275 priority substances was announced in the Federal Register on March 6, 2008 (73 FR 12178). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744); November 17, 1997 (62 FR 61332); October 21, 1999 (64 FR 56792); October 25, 2001 (66 FR 54014); November 7, 2003 (68 FR 63098); and November 29, 2005 (70 FR 71506).

Proposed Substances To Be Evaluated for Set 25 Toxicological Profiles

Each year, ATSDR develops a list of substances to be considered for toxicological profile development; this list is compiled from ATSDR's Priority List of Hazardous Substances and from previously nominated substances of public health concern. The following 74 proposed substances will be considered for Set 25 Toxicological Profile development:

Candidate Substances for Profile Development

1. s,s,s-Tributyl phosphorotrithioate (CAS No. 000078-48-8).

2. 2,4-Dimethylphenol (CAS No. 000105-67-9).

3. Bromine (CAS No. 007726-95-6).

4. Bromodichloroethane (CAS No. 0000683-53-4).

5. Butyl benzyl phthalate (CAS No. 000085-68-7).

6. Dibenzofuran (CAS No. 000132-64-9).

7. Dicofol (CAS No. 000115-32-2).

8. Methane (CAS No. 74-82-8).

9. Neptunium-237 (CAS No. 013994-20-2).

10. Palladium (CAS No. 007440-05-3).

11. Parathion (CAS No. 000056-38-2).

12. Pentachlorobenzene (CAS No. 000608-93-5).

13. Polonium-210 (CAS No. 013981-52-7).

14. Treflan (Trifluralin) (CAS No. 001582-09-8).

15. Trichlorofluoroethane (CAS No. 027154-33-2).

16. Fluorides (CAS Nos. 007782-41-4, 007664-39-3, 016984-48-8).

17. Selenium (CAS No. 007782-49-2).

18. Aldrin/Dieldrin (CAS Nos. 000309-00-2, 000060-57-1).

19. Beryllium (CAS No. 007440-41-7).

20. Creosote/Coal Tar (CAS Nos. 008021-39-4, 008007-45-2, 008001-58-9, 065996-93-2).

21. DDT, DDE, DDD (CAS Nos. 000050-29-3, 000072-55-9, 000072-54-8, 000789-02-6, 000053-19, 003424-82-6).

22. Di(2-ethylhexyl)phthalate (CAS No. 000117-81-7).

23. Hexachlorobenzene (CAS No. 000118-74-1).

24. Methoxychlor (CAS No. 000072-43-5).

25. 1,2-Dichloroethane (CAS No. 000107-06-2).

26. Asbestos (CAS Nos. 001332-21-4, 012001-29-5, 012172-73-5).

27. Benzidine (CAS No. 000092-87-5).

28. Di-n-butyl phthalate (CAS No. 000084-74-2).

29. Pentachlorophenol (CAS No. 000087-86-5).

30. Endosulfan (CAS Nos. 000115-29-7, 001031-07-8, 000959-98-8, 033213-65-9).

31. Ethion (CAS No. 000563-12-2).

32. Methylene chloride (CAS No. 000075-09-2).

33. Polychlorinated biphenyls (CAS Nos. 001336-36-3, 011097-69-1, 011096-82-5, 012672-29-6, 053469-21-9, 012767-79-2, 011104-28-2, 012674-11-2, 011141-16-5, 071328-89-7, 026914-33-0).

34. Toluene (CAS No. 000108-88-3).

35. Chlorophenols (CAS Nos. 000088-06-2, 025167-83-3, 000120-83-2, 000095-95-4, 000095-57-8, 004901-51-3, 000935-95-5, 000058-90-2, 000106-48-9, 025167-80-0).

36. Hexachlorocyclopentadiene (CAS No. 000077-47-4).

37. Mercury (CAS Nos. 007439-97-6, 022967-92-6, 007487-94-7).

38. 3,3′-Dichlorobenzidine (CAS No. 000091-94-1).

39. Chlorinated Dibenzodioxin (CDDs) (CAS Nos. 001746-01-6, 034465-46-8, 037871-00-4, 041903-57-5, 036088-22-9, 035822-46-9, 003268-87-9, 057653-85-7, 039227-28-6, 019408-74-3, 040321-76-4).

40. Chloroethane (CAS No. 000075-00-3).

41. Chloromethane (CAS No. 000074-87-3).

42. Dinitrotoluene (CAS Nos. 025321-14-6, 000121-14-2, 000606-20-2).

43. Chloroform (CAS No. 000067-66-3).

44. Chlorpyrifos (CAS No. 002921-88-2).

45. Endrin (CAS Nos. 000072-20-8, 053494-70-5, 007421-93-4).

46. Tetrachloroethylene (CAS No. 000127-18-4).

47. Trichloroethylene (CAS No. 000079-01-6).

48. 1,2-Dichloroethene (CAS Nos. 000540-59-0, 000156-60-5, 000156-59-2).

49. Carbon disulfide (CAS No. 000075-15-0).

50. 1,1-Dichloroethene (CAS No. 000075-35-4).

51. 2,4-Dinitrophenol (CAS No. 000051-28-5).

52. 4,6-Dinitro-o-cresol (CAS No. 000534-52-1).

53. Disulfoton (CAS No. 000298-04-4).

54. Hexachlorobutadiene (CAS No. 000087-68-3).

55. Polycyclic aromatic hydrocarbons (CAS No. 130498-29-2).

56. Acetone (CAS No. 000067-64-1).

57. Chlordane (CAS Nos. 000057-74-9, 005103-71-9, 005103-74-2, 027304-13-8, 056641-38-4, 12789-03-6, 056534-02-2, 039765-80-5, 005103-73-1, 003734-48-3).

58. Chlordecone/Mirex (CAS Nos. 000143-50-0, 002385-85-5).

59. Chlorinated Dibenzofurans (CDFs) (CAS Nos. 042934-53-2, 039001-02-0, 038998-75-3, 057117-31-4, 055684-94-1, 030402-15-4, 051207-31-9, 067562-39-4, 072918-21-9, 030402-14-3, 057117-44-9, 070648-26-9, 060851-34-5, 057117-41-6, 055673-89-7).

60. 1,2-Dibromo-3-chloropropane (CAS Nos. 000096-12-8, 067708-83-2).

61. 1,2-Dibromoethane (CAS No. 000106-93-4).

62. 2-Hexanone (CAS No. 000591-78-6).

63. 4,4′-Methylene bis(2-chloroaniline) (CAS No. 000101-14-4).

64. N-Nitrosodiphenylamine (CAS No. 000086-30-6).

65. 2-Butanone (CAS No. 000078-93-3).

66. 1,1-Dichloroethane (CAS No. 000075-34-3).

67. 1,2-Diphenylhydrazine (CAS No. 000122-66-7).

68. Bis(2-chloroethyl) ether (CAS No. 000111-44-4).

69. Chlorobenzene (CAS No. 000108-90-7).

70. Radium (CAS Nos. 007440-14-4, 013982-63-3, 015262-20-1, 013233-32-4).

71. Thorium (CAS Nos. 007440-29-1, 014269-63-7, 014274-82-9).

72. 1,1,2-Trichloroethane (CAS No. 000079-00-5).

73. N-Nitrosodimethylamine (CAS No. 000062-75-9).

74. N-Nitrosodi-n-propylamine (CAS No. 000621-64-7).

Submission of Nominations for the Evaluation Set 25 Proposed Substances: Today's notice invites voluntary public nominations for substances not listed in this notice. Nominations are most useful if they include the full name of the nominator, title, affiliation, e-mail address, and telephone number.

ATSDR will evaluate all data and information associated with nominated substances and will determine the final list of substances to be chosen for toxicological profile development. Substances will be chosen according to ATSDR's specific guidelines for selection. These guidelines can be found in the Selection Criteria announced in the Federal Register on May 7, 1993 (85FR27286). Please submit nominations by any of the following methods:

E-mail: tpcandidatecomments@cdc.gov.

Fax: 770.488.4178.

Mail: CDR Jessilynn Taylor, 1600 Clifton Rd., NE., MS F-62, Atlanta, GA 30333.

FOR FURTHER INFORMATION CONTACT: For further information, please contact Commander Jessilynn B. Taylor by e-mail at jxt1@cdc.gov or by phone at 770-488-3313.

Please ensure that your comments are submitted within the specified nomination period. Nominations received after the closing date will be marked as late and may be considered only if time and resources permit.

Ken Rose,
Director, Office of Policy, Planning and Evaluation, National Center for Environmental Health/Agency for Toxic Substances and Disease Registry.

[FR Doc. 2011-4327 Filed 2-25-11; 8:45 am]

BILLING CODE 4163-70-P